DEPARTMENT OF THE INTERIOR

Bureau of Indian Affairs

[212A2100DD/AAKC001030/A0A501010.999900253G]

Indian Gaming; Approval of Tribal-State Class III Gaming Compact in the State of Washington

Correction

In notice document 2021-18819, appearing on pages 49049 through 49050 in the issue of Wednesday, September 1, 2021 make the following correction.

On page 49049, in the third column, in the DATES section, on the second line, “November 1, 2021” should read, “September 1, 2021”.

[FR Doc. C1-2021-18819 Filed 9-9-21; 8:45 am]

BILLING CODE 0099-10-D